DEPARTMENT OF HOMELAND SECURITY

U.S. Immigration and Customs Enforcement

[OMB Control Number 1653-0038]

Agency Information Collection Activities; Revision of a Currently Approved Collection: Student and Exchange Visitor Information System (SEVIS)

AGENCY: U.S. Immigration and Customs Enforcement, Department of Homeland Security.

ACTION: 30-Day notice.

SUMMARY: The Department of Homeland Security (DHS), U.S. Immigration and Customs Enforcement (ICE) will be submitting the following information collection request to the Office of Management and Budget (OMB) for review and clearance in accordance with the Paperwork Reduction Act of 1995. This information collection was previously published in the Federal Register on September 3, 2025, allowing for a 60-day comment period. ICE received 108 substantive comments. The purpose of this notice is to allow an additional 30 days for public comments.

DATES: Comments are encouraged and will be accepted until December 26, 2025.

ADDRESSES: Written comments and recommendations for the proposed information collection should be sent within 30 days of the publication of this notice to www.reginfo.gov/public/do/PRAMain. Find this information collection by selecting “Currently under 30-day Review—Open for Public Comments” or by using the search function.

FOR FURTHER INFORMATION CONTACT: If you have questions related to this collection, call or email Sharon Snyder, Student and Exchange Visitor Program, 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Student and Exchange Visitor Information System (SEVIS).

(3) Agency form number, if any, and the applicable component of the Department of Homeland Security sponsoring the collection: I-17 and I-20; U.S. Immigration and Customs Enforcement.

(4) Affected public who will be asked or required to respond, as well as a brief abstract: Primary: Nonprofit institutions and individuals or households. SEVIS is an internet-based data entry, collection, and reporting system. It collects information on SEVP-certified schools via the Form I-17, “Petition for Approval of School for Attendance by Nonimmigrant Student,” and collects information on the F and M nonimmigrant students that the SEVP-certified schools admit into their programs of study via the Form I-20, “Certificate of Eligibility for Nonimmigrant (F-1) Student Status—For Academic and Language Students” and “Certificate of Eligibility for Nonimmigrant (M-1) Student Status—For Vocational Students.”

The Form I-17 will be revised to collect previous school codes associated with the school and/or owner, school website links, emergency contact information for the school, and additional information on school ownership, as well as to remove the fax number field, which is now obsolete. SEVP will be redesigning the “Program of Study” page on the Form I-17 to better capture the educational level, degree, program of study, time necessary to complete the program, assigned Classification of Instructional Programs (CIP) code, and mode of instruction. In addition, SEVP will require schools to indicate whether a program of study is conducted predominantly online or in a hybrid or low residency format and whether Curricular Practical Training is a component of a program of study. Other updates to the Form I-17 will allow designated school officials (DSOs) to select “weeks” as an academic term length, require DSOs to provide separate numbers for domestic and international students when listing the “Average Annual Number of Students,” allow DSOs to list annual costs by program of study or degree level, allow DSOs to provide additional contact information, require DSOs to indicate whether they work full-time or part-time, and change a DSO's “Title” to “Job Title,” to better collect information on their position at the school.

The Form I-20 will be revised to collect contact and other information on legal guardians of minor F and M students, the date of students' graduation/degree awarded, and clarifying details on the source and type of the financial support for F and M students, as well as information to indicate whether a student is engaging in online education or on-campus employment. Information will also be collected on whether a student's employment or training is being conducted at an on-site location or remotely.

(5) An estimate of the total number of respondents and the amount of time estimated for an average respondent to respond: 20,890 responses.

(6) An estimate of the total public burden (in hours) associated with the collection: The total estimated annual burden associated with this collection of information in hours is 815,505 hours. There is an additional one-time burden in the first year of this collection of 6,778 hours.

Dated: November 21, 2025.
Scott Elmore,
PRA Clearance Officer.

[FR Doc. 2025-20932 Filed 11-24-25; 8:45 am]

BILLING CODE 9111-28-P